DEPARTMENT OF EDUCATION

Notice of Proposed Information Collection Requests

AGENCY: Department of Education.

SUMMARY: The Director, Information Collection Clearance Division, Regulatory Information Management Services, Office of Management, invites comments on the proposed information collection requests as required by the Paperwork Reduction Act of 1995.

DATES: Interested persons are invited to submit comments on or before September 7, 2010.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: July 2, 2010.
Darrin A. King,
Director, Information Collection Clearance Division, Regulatory Information Management Services, Office of Management.

Office of Postsecondary Education.

Type of Review: Reinstatement.

Title: Annual Performance Reports for Title III and Title V Programs.

OMB #: 1840-0766.

Agency Form Number(s): N/A.

Frequency: Annually.

Affected Public: Not-for-profit institutions.

Reporting and Recordkeeping Hour Burden:

Responses: 891.

Burden Hours: 17,460.

Abstract: Titles III and V programs authorized by the Higher Education Act of 1965 (HEA), as amended, provide discretionary and formula grants to approximately 40 percent of eligible institutions of higher education and organizations (MSEIP-Title III, E only) to support improvements in educational quality, institutional management and fiscal stability. The office of Institutional Development and Undergraduate Education Services (IDUES) is authorized to award one year planning grants and five-year development grants and collect key data, analyze, report, and evaluate grantee and Program performance and outcomes. Grantees submit a yearly performance report to demonstrate that substantial progress is being made towards meeting the objectives of their project and first year grantees submit an interim (six month) report as well. This request continues the use of a web-based performance report to more effectively elicit program-specific information to be used for program monitoring, data analysis, and Government Performance and Results Act (GPRA) reporting purposes. The Annual Performance Report (APR) continues to be the cornerstone of the Information Management Performance System (IMPS) tailored to strengthen the Department of Education's program monitoring efforts, streamline our processes, and enhance our customer service to the end of meeting legislative, regulatory, and directive requirements.

The colleges and communities served by Titles III and V of the HEA include: Historically Black Colleges and Universities (HBCU); Historically Black Graduate Institutions (HBGI); Hispanic-Serving Institutions (HSI); American Indian Tribally Controlled Colleges and Universities (TCCU); Alaska Native-Serving Institutions; Native Hawaiian-Serving Institutions; Asian American and Native American Pacific Islander-Serving Institutions (AANAPISI); Native American-Serving Nontribal Institutions (NASNTI); and other institutions that serve a significant number of minority and financially disadvantaged students and have low average and general expenditures per student.

There are major forces continuing to drive the APR: (1) The need to improve the quality and effectiveness of our program monitoring efforts; (2) the need to provide more reliable and valid data for the Government Performance and Results Act (GPRA); (3) the need to evaluate grantee and Program effectiveness; and (4) capacity building efforts toward a Title III and Title V community of practice. The Office of Inspector General (IG) has identified repeatedly the aforementioned needs as areas that IDUES should resolve. For the past seven years, IDUES has been focused on addressing these areas and has designed this APR as the data collection tool of the Information Management Performance System platform.

The APR supports IDUES IMPS as the database tool of our monitoring oversight, analysis, evaluation, trend and profile reporting of grant and program life cycle performance. According the IG audit ED-OIG/A04-90013 (“Office of Higher Education Programs Needs to Improve its Oversight of Parts A and B of the Title III Program”), “[Higher Education Programs] needs a systematic approach to effectively and efficiently monitor Title III grantees for compliance and program performance.” With this methodical approach to program monitoring, IDUES is significantly reducing the risk of grantees using federal funds inappropriately and better ensuring that grant objectives are being met. In our most recent collection grantees indicated that only one percent of grantees requested a change to scheduled objectives and 57 percent of grantee objectives were on schedule of the more than 9,000 objectives identified. Prior to the development and implementation of the APR electronic collection we were not able to present data that indicated success or failure of the programs individually or collectively without laboring through hundreds of hard copy reports.

In addition to improving our program oversight, the IG has found that the current Title III and Title V performance indicators for GPRA were developed with minimal consultation with the grantee communities, and minimal involvement from IDUES staff. In the Audit Report ED-OIG/A04-90014 (“Review of Title III Program, HEA, Compliance with GPRA Requirements for Implementation of Performance Indicators”), the IG recommends that we create a more reliable system for collecting and aggregating the data needed to demonstrate the effectiveness of the Title III and Title V programs. Clearly, the APR should play a central role in collecting the GPRA data that we are required to report to Congress. With this in mind, the APR was designed to collect data in a manner that is flexible, reliable, valid and pertinent to program objectives and Program performance measures. Furthermore the resulting profile and trend reports from the APR are facilitating dialogues with the grantee community on performance indicators and individual program success.

In conjunction with the IG's findings and in accordance with Actions (4)(a)(1) & (4)(a)(2) of the Corrective Action Plan (CAN #04-6001) issued by IDUES, we are continuing use of an Annual Performance Report that substantially improves our efforts to meet the aforementioned objectives. Yet it is clear that a single, annual report would be insufficient for satisfying the multiple and varied demands that are required for program monitoring and GPRA reporting. Therefore the APR is being submitted for OMB approval as IDUES' cornerstone of an Information Management Performance System that employs various tools to comprehensively analyze, evaluate, report Program trends and community practice, and monitor our grantees and Program success. Catalog of Federal Domestic Assistance program numbers are being added for 84.031C, 84.031L, 84.382B, 84.031M, and 84.031X. Current questions for CFDA 84.031B and 84.031S are edited for clarity.

Requests for copies of the proposed information collection request may be accessed from http://edicsweb.ed.gov, by selecting the “Browse Pending Collections” link and by clicking on link number 4348. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-16655 Filed 7-7-10; 8:45 am]

BILLING CODE 4000-01-P